DEPARTMENT OF TRANSPORTATION

Surface Transportation Board

[STB Finance Docket No. 34377]

The Burlington Northern and Santa Fe Railway Company—Temporary Trackage Rights Exemption—Union Pacific Railroad Company

Union Pacific Railway Company (UP) has agreed to grant temporary overhead trackage rights to The Burlington Northern and Santa Fe Railway Company (BNSF) over UP's Memphis Subdivision lines between West Memphis, AR, at UP milepost 375.9, and Memphis, TN, at UP milepost 378.1, a distance of approximately 2.2 miles.

The transaction is scheduled to become effective on July 16, 2003, and the authorization is scheduled to expire on October 2, 2003. The purpose of the temporary trackage rights is to allow BNSF to bridge its train service while its main lines are out of service due to certain programmed track, roadbed, and structural maintenance.

As a condition to this exemption, any employees affected by the trackage rights will be protected by the conditions imposed in Norfolk and Western Ry. Co.—Trackage Rights—BN, 354 I.C.C. 605 (1978), as modified by Mendocino Coast Ry., Inc.—Lease and Operate, 360 I.C.C. 653 (1980), aff'd sub nom. Railway Labor Executives' Ass'n v. United States, 675 F.2d 1248 (DC Cir. 1982).

This notice is filed under 49 CFR 1180.2(d)(8). If the notice contains false or misleading information, the exemption is void ab initio. Petitions to revoke the exemption under 49 U.S.C. 10502(d) may be filed at any time. The filing of a petition to revoke will not stay the transaction.

An original and 10 copies of all pleadings, referring to STB Finance Docket No. 34377, must be filed with the Surface Transportation Board, 1925 K Street, NW., Washington, DC 20423-0001. In addition, a copy of each pleading must be served on Michael E. Roper, 2500 Lou Menk Drive, P. O Box 961039, Fort Worth, TX 76161-0039.

Board decisions and notices are available on our website at http://www.stb.dot.gov.

Decided: July 18, 2003.
By the Board, David M. Konschnik, Director, Office of Proceedings.
Vernon A. Williams,
Secretary.

[FR Doc. 03-18973 Filed 7-29-03; 8:45 am]

BILLING CODE 4915-00-P